FEDERAL ELECTION COMMISSION

Sunshine Act Meetings

DATE AND TIME: Tuesday, May 11, 2004 at 10 a.m.

PLACE: 999 E Street, NW., Washington, DC.

STATUS: This meeting will be closed to the public.

ITEMS TO BE DISCUSSED: Compliance matters pursuant to 2 U.S.C. 437g.

Audits conducted pursuant to 2 U.S.C. 437g, § 438(b), and Title 26, U.S.C.

Matters concerning participation in civil actions or proceedings or arbitration.

Internal personnel rules and procedures or matters affecting a particular employee.

DATE AND TIME: Thursday, May 13, 2004 at 10 a.m.

PLACE: 999 E Street, NW., Washington, DC (ninth floor).

STATUS: This meeting will be open to the public.

ITEMS TO BE DISCLOSED: Correction and Approval of Minutes.

Advisory Opinion 2004-13: Allyson Schwartz for Congress by Ken Morley, Campaign Manager.

Political Committee Status—Final Rules.

Routine Administrative Matters.

FOR FURTHER INFORMATION: Mr. Robert Biersack, Acting Press Officer, Telephone: (202) 694-1220.

Mary W. Dove,
Secretary of the Commission.

[FR Doc. 04-10386 Filed 5-3-04; 3:17 pm]

BILLING CODE 6715-01-M